DEPARTMENT OF TRANSPORTATION

Federal Aviation Administration

Eighth Meeting: RTCA Special Committee 219: Attitude and Heading Reference Systems (AHRS)

AGENCY: Federal Aviation Administration (FAA), U.S. Department of Transportation (DOT).

ACTION: Notice of RTCA Special Committee 219: Attitude and Heading Reference Systems (AHRS).

SUMMARY: The FAA is issuing this notice to advise the public of the eighth meeting of RTCA Special Committee 219: Attitude and Heading Reference Systems (AHRS).

DATES: The meeting will be held January 24-26, 2012, from 9 a.m. to 5 p.m.

ADDRESS: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C. App.), notice is hereby given for a meeting of RTCA Special Committee 219: Attitude and Heading Reference Systems (AHRS). The agenda will include the following:

January 24, 2012

• Introduction and administrative items

• Review of meeting agenda

• Review and approval of Summary from the last plenary meeting, RTCA Paper No. 123-11/SC219-012060-11/SC219-010

• Review minutes from last working group meeting

• Review the combined comment matrix

• Begin discussing and addressing the comment matrix, making changes to the document as needed

January 25, 2012

• Continue discussing and addressing the comment matrix, making changes to the document as needed

• Consider and approve MOPS document as complete, contingent upon making the last changes documented in the comment matrix

• TOR compliance determination Recommend PMC Consideration/Approval of MOPS

• Other Business

• Concluding Remarks

• Adjourn

January 26, 2012

• Open if needed

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on December 15, 2011.
Robert L. Bostiga,
Manager, Business Operations Branch, Federal Aviation Administration.

[FR Doc. 2011-32855 Filed 12-22-11; 8:45 am]

BILLING CODE 4910-13-P